DEPARTMENT OF HOMELAND SECURITY

Coast Guard

33 CFR Part 117

[USCG-2008-0116]

Drawbridge Operation Regulations; Atlantic Intracoastal Waterway (AIWW), at Scotts Hill, NC

AGENCY: Coast Guard, DHS.

ACTION: Notice of temporary deviation from regulations.

SUMMARY: The Commander, Fifth Coast Guard District, has issued a temporary deviation from the regulation governing the operation of the Figure Eight Swing Bridge, at AIWW mile 278.1, at Scotts Hill, NC. From February 29, 2008 at 6 p.m. until March 11, 2008 at 5:30 p.m., this deviation is necessary to complete sandblasting and painting operations along with mechanical repairs. The drawbridge will remain closed-to-navigation each day from 6 p.m. to 9:30 a.m., from 10 a.m. to 1:30 p.m., and from 2 p.m. to 5:30 p.m.

DATES: This deviation is effective from 6 p.m. on February 29, 2008 to 5:30 p.m. on March 11, 2008.

ADDRESSES: Materials referred to in this document are available for inspection or copying at Commander (dpb), Fifth Coast Guard District, Federal Building, 1st Floor, 431 Crawford Street, Portsmouth, VA 23704-5004 between 8 a.m. and 4 p.m., Monday through Friday, except Federal holidays. The telephone number is (757) 398-6222. Commander (dpb), Fifth Coast Guard District maintains the public docket for this temporary deviation.

FOR FURTHER INFORMATION CONTACT: Gary S. Heyer, Bridge Management Specialist, Fifth Coast Guard District, at (757) 398-6629.

SUPPLEMENTARY INFORMATION: The Figure Eight Swing Bridge has a vertical clearance in the closed position to vessels of 20 feet, above mean high water (MHW). Also, the vertical clearance in this location is limited to 85 feet, above MHW, by the overhead power line.

On December 27, 2007, we published a notice of temporary deviation from regulations entitled “Drawbridge Operation Regulations; Atlantic Intracoastal Waterway (AIWW), at Scotts Hill, NC” in the Federal Register (72 FR 56013).

Contractors, on behalf of the Figure Eight Homeowners Association (the bridge owner), requested an additional temporary deviation from the current operating regulations set out in 33 CFR 117.821(a)(3) to close the drawbridge to navigation in order to complete sandblasting, cleaning and painting of the bridge superstructure along with mechanical repairs.

To complete this operation, the Figure Eight Swing Bridge will be further maintained in the closed-to-navigation position each day from February 29, 2008, until March 11, 2008, from 6 p.m. to 9:30 a.m., from 10 a.m. to 1:30 p.m., and from 2 p.m. to 5:30 p.m. Commercial vessel openings will be provided from the 6 p.m. to 9:30 a.m. work-block if at least three hours notice is given by calling (910) 686-0635 or via marine radio on Channel 13. At all other times, the drawbridge will operate in accordance with 33 CFR 117.821(a)(3).

The Coast Guard will inform the users of the waterway through our Local and Broadcast Notices to Mariners of the closure period for the bridge so that vessels can arrange their transits to minimize any impact caused by the temporary deviation.

In accordance with 33 CFR 117.35(e), the drawbridge must return to its regular operating schedule immediately at the end of the designated time period. This deviation from the operating regulations is authorized under 33 CFR 117.35.

We analyzed this temporary deviation under Commandant Instruction M16475.lD and Department of Homeland Security Management Directive 5100.1, which guide the Coast Guard in complying with the National Environmental Policy Act of 1969 (NEPA) (42 U.S.C. 4321-4370f).

The environmental impact of this temporary deviation will be minimal because closing the drawbridge to vessels in order to perform routine repair and maintenance will not result in a change in functional use, or an impact on a historically significant element or setting.

Dated: February 25, 2008.
Waverly W. Gregory, Jr.,
Chief, Bridge Administration Branch, Fifth Coast Guard District.

[FR Doc. E8-4812 Filed 3-10-08; 8:45 am]

BILLING CODE 4910-15-P